DEPARTMENT OF ENERGY

Federal Energy Regulatory Commission

[Project No. 4908-015]

Tannery Island Power Corporation; Ampersand Tannery Island Hydro, LLC; Notice of Transfer of Exemption

1. By letter filed September 29, 2014, Ampersand Tannery Island Hydro, LLC informed the Commission that the exemption from licensing for the Tannery Island Project, FERC No. 4908, originally issued July 11, 1983,¹ has been transferred from Tannery Island Power Corporation to Ampersand Tannery Island Hydro, LLC. The project is located on the Black River in Jefferson County, New York. The transfer of an exemption does not require Commission approval.

¹ 24 FERC ¶ 61,021, Order Modifying Order Vacating Grant of Exemptions from Licensing (1983).

2. Ampersand Tannery Island Hydro, LLC is now the exemptee for the Tannery Island Project, FERC No. 4908. All correspondence should be forwarded to: Mr. Jingdong Huang, Asset Manager, Ampersand Tannery Island Hydro, LLC, 717 Atlantic Avenue, Suite 1A, Boston, MA 02111.

Dated: March 11, 2015.
Kimberly D. Bose,
Secretary.

[FR Doc. 2015-06079 Filed 3-17-15; 8:45 am]

BILLING CODE 6717-01-P